DEPARTMENT OF AGRICULTURE

Commodity Credit Corporation

7 CFR Part 1405

RIN 0560-AI00

Commodity Assessments; Loans, Purchases, and Other Operations

AGENCY: Commodity Credit Corporation, USDA.

ACTION: Final rule; technical amendment.

SUMMARY: The Commodity Credit Corporation (CCC) is amending regulations as required by the Food, Conservation, and Energy Act of 2008 (the 2008 Farm Bill) to remove a provision concerning CCC fees for administrative costs to collect commodity assessments. The 2008 Farm Bill prohibits CCC from collecting these fees. As a result of this amendment, CCC, rather than States or commodity associations, will absorb the administrative costs of implementing and modifying commodity assessment collections.

DATES: Effective Date: November 19, 2010.

FOR FURTHER INFORMATION CONTACT: Frankie Coln, Price Support Division, Farm Service Agency (FSA), U.S. Department of Agriculture (USDA), Mail Stop 0512, 1400 Independence Avenue, SW., Washington, DC 20250-0512; telephone (202) 720-9011; fax (202) 690-3307; e-mail, Frankie.coln@wdc.usda.gov.

Persons with disabilities who require alternative means for communication (Braille, large print, audiotape, etc.) should contact the USDA Target Center at 202-720-2600 (voice and TDD).

SUPPLEMENTARY INFORMATION: Section 1616 of the 2008 Farm Bill (Pub. L. 110-246) prohibits CCC from charging any fee or related cost for the collection of commodity assessments. Therefore, this rule removes a provision relating to such fees. CCC has already implemented this policy and is not charging such fees.

Many States charge assessments on commodities marketed in that State and use the assessment to fund State level agricultural promotion activities. CCC has agreements with States to collect the assessments. When authorized by State law, CCC deducts the assessment from the proceeds of a Marketing Assistance Loan (MAL) on behalf of the State. In the past, CCC has charged fees to cover the administrative costs of collecting the assessment, including costs to modify the rate of the assessment or to develop the automation software to begin the collection of a newly mandated commodity assessment. The agreement between CCC and the States has required the States to indemnify CCC for the administrative costs of collecting the assessments.

CCC will continue to collect commodity assessments as part of the MAL program, but is no longer charging fees for the administrative costs. Therefore, the cost to MAL customers for CCC's administration of commodity assessments has decreased to zero. CCC estimates that this will save producers, their marketing associations, and the States about $15,000 per year.

Notice and Comment

These regulations are exempt from the notice and comment requirements of the Administrative Procedures Act (5 U.S.C. 553), as specified in section 1601(c) of the 2008 Farm Bill, which requires that the regulations be promulgated and administered without regard to the notice and comment provisions of Section 553 of title 5 of the United States Code or the Statement of Policy of the Secretary of Agriculture effective July 24, 1971 (36 FR 13804) relating to notices of proposed rulemaking and public participation in rulemaking.

Executive Order 12866

This final rule has been designated as not significant under Executive Order 12866 and has not been reviewed by the Office of Management and Budget.

Regulatory Flexibility Act

This rule is not subject to the Regulatory Flexibility Act since CCC is not required to publish a notice of proposed rulemaking for this rule.

Environmental Evaluation

The environmental impacts of this rule have been considered in a manner consistent with the provisions of the National Environmental Policy Act (NEPA, 42 U.S.C. 4321-4347), the regulations of the Council on Environmental Quality (40 CFR parts 1500-1508), and FSA regulations for compliance with NEPA (7 CFR part 799). The change to the regulations removing a provision concerning CCC fee collection for administrative costs of implementing or modifying commodity assessment collections, as required by the 2008 Farm Bill, that are identified in this Final Rule is solely administrative. Therefore, FSA has determined that NEPA does not apply to this Final Rule and no environmental assessment or environmental impact statement will be prepared.

Executive Order 12372

This program is not subject to Executive Order 12372, which requires consultation with State and local officials. See the notice related to 7 CFR part 3015, subpart V, published in the Federal Register on June 24, 1983 (48 FR 29115).

Executive Order 12988

This rule has been reviewed under Executive Order 12988. This final rule is not retroactive and it does not preempt State or local laws, regulations, or policies unless they present an irreconcilable conflict with this rule. Before any judicial action may be brought regarding the provisions of this rule the administrative appeal provisions of 7 CFR parts 11 and 780 must be exhausted.

Executive Order 13132

The policies contained in this rule do not have any substantial direct effect on States, on the relationship between the national government and the States, or on the distribution of power and responsibilities among the various levels of government. Nor does this rule impose substantial direct compliance costs on state and local governments. Therefore, consultation with the States is not required.

Executive Order 13175

The policies contained in this rule do not have tribal implications that preempt tribal law.

Unfunded Mandates

This rule contains no Federal mandates under the regulatory provisions of Title II of the Unfunded Mandates Reform Act of 1995 (UMRA) for State, local, or tribal governments, or the private sector. In addition, CCC was not required to publish a notice of proposed rulemaking for this rule. Therefore, this rule is not subject to the requirements of sections 202 and 205 of UMRA.

Paperwork Reduction Act

These regulations are exempt from the requirements of the Paperwork Reduction Act (44 U.S.C. Chapter 35), as specified in section 1601(c)(2)(a) of the 2008 Farm Bill, which provides that these regulations, which are necessary to implement title I of the 2008 Farm Bill, be promulgated and administered without regard to the Paperwork Reduction Act.

E-Government Act Compliance

CCC is committed to complying with the E-Government Act, to promote the use of the Internet and other information technologies to provide increased opportunities for citizen access to Government information and services, and for other purposes.

List of Subjects in 7 CFR part 1405

Loan programs—agriculture, Price support programs.

For the reasons set out above, CCC amends 7 CFR part 1405 as follows:

PART 1405—LOANS, PURCHASES, AND OTHER OPERATIONS

1. The authority will continue to read as follows:

Authority: 7 U.S.C. 1515; 7 U.S.C. 7416a; 7 U.S.C. 7991(e); 15 U.S.C. 714b and 714c.

§ 1405.9 [Amended]

2. Amend § 1405.9, in paragraph (c)(1), by removing the words “and for administrative costs”, and adding, in their place, the words “but not for administrative costs”.

Signed in Washington, DC, on November 15, 2010.
Jonathan Coppess,
Executive Vice President, Commodity Credit Corporation.

[FR Doc. 2010-29249 Filed 11-18-10; 8:45 am]

BILLING CODE 3410-05-P